DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Chambers County, Alabama, and Incorporated Areas
Docket No.: FEMA-B-1085
Hardley Creek (backwater effects from Chattahoochee River) | From the confluence with the Chattahoochee River to approximately 0.53 mile upstream of Stateline Road | +579 | Unincorporated Areas of Chambers County.
Oseligee Creek | Approximately 1.5 miles downstream of Fredonia Highway | +576 | Unincorporated Areas of Chambers County.
| Just downstream of Fredonia Highway | +576
* National Geodetic Vertical Datum. + North American Vertical Datum. # Depth in feet above ground. ‸ Mean Sea Level, rounded to the nearest 0.1 meter.
ADDRESSES
Unincorporated Areas of Chambers County
Maps are available for inspection at 2 South LaFayette Street, LaFayette, AL 36862.
Yuba County, California, and Incorporated Areas
Docket No.: FEMA-B-7472
Bear River | At the confluence with the Feather River | *53 | Unincorporated Areas of Yuba County.
| Approximately 1.0 mile upstream of the confluence with Dry Creek | *69
Best Slough | At the confluence with Western Pacific Interceptor Channel | *61 | Unincorporated Areas of Yuba County.
| Approximately 1.2 miles upstream of the confluence with Western Pacific Interceptor Channel | *61
Dry Creek | At the confluence with the Bear River | *66 | Unincorporated Areas of Yuba County.
| Just downstream of Highway 65 | *67
Feather River | Approximately 1.5 miles downstream of the confluence with the Bear River | *52 | Unincorporated Areas of Yuba County.
| Approximately 0.9 mile upstream of Island Avenue | *72
Western Pacific Interceptor Channel | At the confluence with the Bear River | *60 | Unincorporated Areas of Yuba County.
| Approximately 2.7 miles upstream of the confluence with Best Slough | *61
* National Geodetic Vertical Datum. + North American Vertical Datum. # Depth in feet above ground. ‸ Mean Sea Level, rounded to the nearest 0.1 meter.
ADDRESSES
Unincorporated Areas of Yuba County
Maps are available for inspection at the Yuba County Government Center, Administrator's Office, 915 8th Street, Suite 115, Marysville, CA 95901.
Whiteside County, Illinois, and Incorporated Areas
Docket No.: FEMA-B-1087
French Creek | Approximately 3,100 feet downstream of Portland Avenue | +623 | Unincorporated Areas of Whiteside County.
| Approximately 1,700 feet downstream of Lyndon Road | +659
Interior Drainage | Approximately at Wares Lake, landward/east of the Fulton Illinois LFPP Levee and north of Melody Hills Street | +584 | Unincorporated Areas of Whiteside County.
| Approximately at Cattail Slough, west of State Route 84 (Waller Road) | +584
Mississippi River | Approximately 0.6 mile downstream of Meredosia Road extended | +588 | Unincorporated Areas of Whiteside County.
| Approximately 180 feet downstream of Garret Street extended | +589
| Approximately 780 feet upstream of Lock and Dam No. 13 | +593
| Approximately 2.1 miles upstream of Lock and Dam No. 13 | +593
Mississippi River | Approximately 920 feet upstream of Meredosia Road extended | +588 | Village of Albany.
| Approximately 380 feet downstream of the confluence with Spring Creek | +589
Rock Creek | Approximately 1,560 feet upstream of the confluence with French Creek | +622 | Unincorporated Areas of Whiteside County.
| Approximately 750 feet upstream of Damen Road extended | +636
Rock River | Approximately 1.6 miles downstream of State Route 78 (Bishop Road) | +601 | City of Prophetstown.
| Approximately 1.1 miles downstream of the confluence with Walker Slough | +605
Rock River | Approximately 1,820 feet downstream of 12th Avenue/Avenue G | +630 | City of Rock Falls, City of Sterling.
| Approximately 0.46 mile upstream of the Government Dam | +640
* National Geodetic Vertical Datum. + North American Vertical Datum. # Depth in feet above ground. ‸ Mean Sea Level, rounded to the nearest 0.1 meter.
ADDRESSES
City of Prophetstown
Maps are available for inspection at City Hall, 339 Washington Street, Prophetstown, IL 61277.
City of Rock Falls
Maps are available for inspection at City Hall, 603 West 10th Street, Rock Falls, IL 61071.
City of Sterling
Maps are available for inspection at City Hall, 212 3rd Avenue, Sterling, IL 61081.
Unincorporated Areas of Whiteside County
Maps are available for inspection at the Whiteside County Courthouse, 200 East Knox Street, Morrison, IL 61270.
Village of Albany
Maps are available for inspection at the Village Hall, 101 North Lime Street, Albany, IL 61230.
Vigo County, Indiana, and Incorporated Areas
Docket No.: FEMA-B-1014
Sugar Creek | Approximately 2,000 feet downstream of Conrail | +469 | Town of West Terre Haute, Unincorporated Areas of Vigo County.
| Approximately 1,280 feet downstream of Conrail | +470
Wabash River | Approximately 1,214 feet upstream of I-70 | +470 | Town of West Terre Haute, Unincorporated Areas of Vigo County.
| At U.S. Route 40 | +472
* National Geodetic Vertical Datum. + North American Vertical Datum. # Depth in feet above ground. ‸ Mean Sea Level, rounded to the nearest 0.1 meter.
ADDRESSES
Town of West Terre Haute
Maps are available for inspection at the Town Hall, 500 National Avenue, West Terre Haute, IN 47885.
Unincorporated Areas of Vigo County
Maps are available for inspection at the Vigo County Annex Building, 121 Oak Street, Terre Haute, IN 47807.
Scott County, Iowa, and Incorporated Areas
Docket No.: FEMA-B-1078
Mississippi River | Approximately 13.4 miles downstream of Lock and Dam No. 15 | +561 | City of Bettendorf, City of Buffalo, City of Davenport, City of Le Claire, City of Princeton, City of Riverdale, Unincorporated Areas of Scott County.
| Approximately 13.7 miles upstream of Lock and Dam No. 14 | +585
Mississippi River backwater effect on Moore Creek | From the confluence with the Mississippi River to approximately 0.4 mile upstream of the confluence with the Mississippi River | +562 | City of Buffalo.
Mississippi River backwater effect on Oak Hill School Creek | From the confluence with the Mississippi River to approximately 0.5 mile upstream of the confluence with the Mississippi River | +561 | City of Buffalo.
Mississippi River backwater effected area #1 (downstream) | Approximately 0.4 mile downstream of the intersection of Buffalo Road and State Route 22 | +562 | City of Buffalo.
| Approximately 0.5 mile upstream of the intersection of Dodge Street and State Route 22 | +562
Mississippi River backwater effected area #2 (upstream) | Approximately 875 feet downstream of the intersection of 115th Avenue and State Route 22 | +562 | City of Buffalo.
| Approximately 250 feet upstream of the intersection of Buffalo Road and State Route 22 | +562
* National Geodetic Vertical Datum. + North American Vertical Datum. # Depth in feet above ground. ‸ Mean Sea Level, rounded to the nearest 0.1 meter.
ADDRESSES
City of Bettendorf
Maps are available for inspection at 1609 State Street, Bettendorf, IA 52722.
City of Buffalo
Maps are available for inspection at 329 Dodge Street, Buffalo, IA 52728.
City of Davenport
Maps are available for inspection at 226 West 4th Street, Davenport, IA 52801.
City of Le Claire
Maps are available for inspection at 325 Wisconsin Street, Le Claire, IA 52753.
City of Princeton
Maps are available for inspection at 311 3rd Street, Princeton, IA 52768.
City of Riverdale
Maps are available for inspection at 110 Manor Drive, Bettendorf, IA 52722.
Unincorporated Areas of Scott County
Maps are available for inspection at 500 West 4th Street, Davenport, IA 52801.
Hickman County, Kentucky, and Incorporated Areas
Docket No.: FEMA-B-1085
Bayou de Chien (backwater effects from Mississippi River) | From the confluence with Bayou de Chien Tributary 12 to approximately 0.52 mile upstream of the confluence with Bayou de Chien Tributary 12 | +321 | Unincorporated Areas of Hickman County.
Bayou de Chien Tributary 12 (backwater effects from Mississippi River) | From the confluence with Bayou de Chien to approximately 1,900 feet upstream of the confluence with Bayou de Chien | +321 | Unincorporated Areas of Hickman County.
Bowles Creek (backwater effects from Mississippi River) | From the confluence with Obion Creek to approximately 1.1 miles upstream of the confluence with Obion Creek | +322 | Unincorporated Areas of Hickman County.
Cane Creek (backwater effects from Mississippi River) | From the confluence with Obion Creek to approximately 3.1 miles upstream of the confluence with Obion Creek | +322 | Unincorporated Areas of Hickman County.
Cane Creek II (backwater effects from Mississippi River) | From the confluence with Bayou de Chien to approximately 0.8 mile upstream of the confluence with Bayou de Chien | +321 | Unincorporated Areas of Hickman County.
Cane Creek II Tributary 1.3 (backwater effects from Mississippi River) | From the confluence with Cane Creek II to approximately 0.6 mile upstream of the confluence with Cane Creek II | +321 | Unincorporated Areas of Hickman County.
Hollingsworth Creek (backwater effects from Mississippi River) | From the confluence with Obion Creek to approximately 1.4 miles upstream of the confluence with Obion Creek | +322 | Unincorporated Areas of Hickman County.
Hurricane Branch (backwater effects from Mississippi River) | From the confluence with Bayou de Chien to approximately 1.1 miles upstream of the confluence with Bayou de Chien | +321 | Unincorporated Areas of Hickman County.
Mississippi River | Approximately 6.3 miles upstream of the confluence of Obion Creek in Fulton County | +322 | Unincorporated Areas of Hickman County.
| Approximately 0.5 mile upstream of the confluence with Sandy Branch | +325
Obion Creek (backwater effects from Mississippi River) | Approximately 1.2 miles downstream of the confluence with Whayne Branch | +322 | Unincorporated Areas of Hickman County.
Obion Creek Tributary 18 (backwater effects from Mississippi River) | From the confluence with Obion Creek to approximately 1.9 miles upstream of the confluence with Obion Creek | +322 | Unincorporated Areas of Hickman County.
Whayne Branch (backwater effects from Mississippi River) | From the confluence with Obion Creek to approximately 5.2 miles upstream of the confluence with Obion Creek | +322 | Unincorporated Areas of Hickman County.
* National Geodetic Vertical Datum. + North American Vertical Datum. # Depth in feet above ground. ‸ Mean Sea Level, rounded to the nearest 0.1 meter.
ADDRESSES
Unincorporated Areas of Hickman County
Maps are available for inspection at 110 East Clay Street, Clinton, KY 42031.
Calcasieu Parish, Louisiana, and Incorporated Areas
Docket Nos.: FEMA-B-7453 and FEMA-B-1004
Bayou Choupique | At U.S. Route 90 | +5 | Unincorporated Areas of Calcasieu Parish.
| At Southern Pacific Railroad | +6
Bayou Contraband | At the confluence with the Calcasieu River | *10 | City of Lake Charles.
| Approximately 500 feet upstream of Tom Herbert Road | *14
East Branch Bayou Contraband | At the confluence with Bayou Contraband | *10 | City of Lake Charles, Unincorporated Areas of Calcasieu Parish.
| Approximately 750 feet downstream of Fontenot Drive | *14
Gulf of Mexico | Base Flood Elevation changes ranging from 6 to 17 feet in the form of Coastal AE/VE zones have been made | +6-17 | City of Lake Charles, City of Sulphur, City of Westlake, Unincorporated Areas of Calcasieu Parish.
South Branch Bayou Contraband | At the confluence with Bayou Contraband | *9 | City of Lake Charles.
| At the intersection of Central Parkway and Greenway | *14
* National Geodetic Vertical Datum. + North American Vertical Datum. # Depth in feet above ground. ‸ Mean Sea Level, rounded to the nearest 0.1 meter.
ADDRESSES
City of Lake Charles
Maps are available for inspection at 326 Pujo Street, Lake Charles, LA 70761.
City of Sulphur
Maps are available for inspection at 500 North Huntington Street, Sulphur, LA 70664.
City of Westlake
Maps are available for inspection at 1001 Mulberry Street, Westlake, LA 70669.
Unincorporated Areas of Calcasieu Parish
Maps are available for inspection at 1015 Pithon Street, Lake Charles, LA 70601.
Lowndes County, Mississippi, and Incorporated Areas
Docket No.: FEMA-B-1087
Tombigbee River | Approximately 3.3 miles downstream of the confluence with James Creek | +155 | City of Columbus, Unincorporated Areas of Lowndes County.
| Approximately 1.4 miles downstream of State Highway 50 | +178
Tombigbee River Split Flow | Approximately 2.3 miles downstream of the confluence with Moore Creek | +166 | City of Columbus, Unincorporated Areas of Lowndes County.
| Approximately 1.2 miles upstream of the confluence with Moore Creek | +168
* National Geodetic Vertical Datum. + North American Vertical Datum. # Depth in feet above ground. ‸ Mean Sea Level, rounded to the nearest 0.1 meter.
ADDRESSES
City of Columbus
Maps are available for inspection at City Hall, 523 Main Street, Columbus, MS 39701.
Unincorporated Areas of Lowndes County
Maps are available for inspection at the Lowndes County Courthouse, 505 2nd Avenue North, Columbus, MS 39701.
Lancaster County, Nebraska, and Incorporated Areas
Docket No.: FEMA-B-1031
Beal Slough | At the confluence with Salt Creek | +1159 | City of Lincoln.
| Approximately 170 feet upstream of South 84th Street | +1376
Cardwell Branch | Approximately 3,700 feet upstream of Southwest 27th Street | +1209 | City of Lincoln.
| Approximately 2,670 feet upstream of Southwest 40th Street | +1221
Cardwell Branch Tributary | Approximately 84 feet upstream of West Cardwell Road | +1203 | City of Lincoln, Unincorporated Areas of Lancaster County.
| Approximately 1,890 feet upstream of Saltillo Road | +1313
Colonial Heights Tributary | At the confluence with Beal Slough | +1230 | City of Lincoln.
| Approximately 2,050 feet upstream of the confluence with Beal Slough | +1245
End Run | At the confluence with Ash Hollow Ditch | +1119 | City of Waverly.
| Approximately 1,062 feet upstream of Amberly Road | +1130
Little Salt Creek | Approximately 1,040 feet upstream of the confluence with Salt Creek | +1139 | City of Lincoln.
| Approximately 656 feet upstream of Arbor Road | +1139
Northeast Tributary to Southeast Upper Salt Creek | At the confluence with Southeast Upper Salt Creek | +1231 | City of Lincoln.
| Approximately 559 feet upstream of Rebel Drive | +1294
Pine Lake Tributary | At the confluence with Beal Slough | +1276 | City of Lincoln.
| Approximately 822 feet upstream of Ashbrook Drive | +1313
Salt Creek | Approximately 5,010 feet upstream of Warlick Boulevard | +1175 | City of Lincoln.
| Approximately 3,709 feet upstream of Saltillo Road | +1199
South Branch | At the confluence with Beal Slough | +1299 | City of Lincoln.
| Approximately 3,900 feet upstream of Yankee Hill Road | +1332
South Tributary to Southeast Upper Salt Creek | At the confluence with Southeast Upper Salt Creek | +1195 | City of Lincoln.
| Approximately 4,278 feet upstream of South 38th Street | +1257
Southeast Upper Salt Creek Tributary to Salt Creek | At the confluence with Salt Creek | +1192 | City of Lincoln.
| Approximately 785 feet upstream of South 66th Street | +1321
Stevens Creek | Approximately 1,400 feet downstream of Yankee Hill Road | +1289 | City of Lincoln.
| Approximately 1,313 feet upstream of State Highway 2 | +1363
Stevens Creek Overflow Tributary 5 | At the confluence with Stevens Creek Overflow | +1138 | City of Lincoln.
| Approximately 3,500 feet upstream of the confluence with Stevens Creek Overflow | +1157
Stevens Creek Tributary 5 | At the confluence with Stevens Creek Main Channel | +1131 | City of Lincoln.
| Approximately 1.0 mile upstream of Havelock Avenue | +1208
Stevens Creek Tributary 7 | At the confluence with Stevens Creek | +1141 | City of Lincoln.
| Approximately 1,875 feet upstream of the confluence with Stevens Creek | +1158
Stevens Creek Tributary 10 | At the confluence with Stevens Creek | +1151 | City of Lincoln.
| Approximately 2,552 feet upstream of Leighton Avenue | +1224
Stevens Creek Tributary 15 | At the confluence with Stevens Creek | +1152 | City of Lincoln.
| Approximately 3,155 feet upstream of North 102nd Street | +1183
Stevens Creek Tributary 20 | At the confluence with Stevens Creek | +1156 | City of Lincoln.
| Approximately 4,300 feet upstream of North 112th Street | +1216
Stevens Creek Tributary 25 | At the confluence with Stevens Creek | +1165 | City of Lincoln.
| Approximately 2,947 feet upstream of South 112th Street | +1207
Stevens Creek Tributary 30 | Approximately 900 feet upstream of the confluence with Stevens Creek | +1160 | City of Lincoln.
| Approximately 419 feet upstream of Anthony Lane | +1233
Stevens Creek Tributary 35 | At the confluence with Stevens Creek | +1175 | City of Lincoln.
| Approximately 1.0 mile upstream of Holdrege Street | +1249
Stevens Creek Tributary 40 | At the confluence with Stevens Creek | +1179 | City of Lincoln.
| Approximately 1,491 feet upstream of South 112th Street | +1203
Stevens Creek Tributary 40A | At the confluence with Stevens Creek Tributary 40 | +1178 | City of Lincoln.
| At the divergence from Stevens Creek Tributary 40 | +1185
Stevens Creek Tributary 45 | Just upstream of Van Dorn Street | +1247 | City of Lincoln.
| Approximately 820 feet upstream of South 98th Street | +1286
Stevens Creek Tributary 50 | At the confluence with Stevens Creek | +1185 | City of Lincoln, Unincorporated Areas of Lancaster County.
| Approximately 3,700 feet upstream of Holdrege Street | +1295
Stevens Creek Tributary 55 | At the confluence with Stevens Creek | +1194 | City of Lincoln.
| Approximately 1,825 feet upstream of South 134th Street | +1234
Stevens Creek Tributary 60 | At the confluence with Stevens Creek | +1196 | City of Lincoln.
| Approximately 1.8 miles upstream of Old Cheney Road | +1321
Stevens Creek Tributary 65 | At the confluence with Stevens Creek | +1204 | City of Lincoln.
| Approximately 2,075 feet upstream of South 134th Street | +1233
Stevens Creek Tributary 70 | At the confluence with Stevens Creek | +1208 | City of Lincoln, Unincorporated Areas of Lancaster County.
| Approximately 1.7 miles upstream of Van Dorn Street | +1300
Stevens Creek Tributary 75 | At the confluence with Stevens Creek | +1217 | City of Lincoln, Unincorporated Areas of Lancaster County.
| Approximately 140 feet upstream of Pioneers Boulevard | +1264
Stevens Creek Tributary 80 | At the confluence with Stevens Creek | +1223 | City of Lincoln.
| Approximately 2,750 feet upstream of the confluence with Stevens Creek | +1261
Stevens Creek Tributary 85 | At the confluence with Stevens Creek | +1226 | City of Lincoln, Unincorporated Areas of Lancaster County.
| Approximately 1.0 mile upstream of Old Cheney Road | +1300
Stevens Creek Tributary 88 | At the confluence with Stevens Creek | +1229 | City of Lincoln.
| Approximately 50 feet upstream of Old Cheney Road | +1243
Stevens Creek Tributary 90 | At the confluence with Stevens Creek | +1241 | City of Lincoln.
| Approximately 3,550 feet upstream of the confluence with Stevens Creek | +1277
Stevens Creek Tributary 92 | At the confluence with Stevens Creek | +1245 | City of Lincoln.
| Approximately 1,400 feet upstream of Pleasant Hill Road | +1273
Stevens Creek Tributary 94 | At the confluence with Stevens Creek | +1264 | City of Lincoln.
| Approximately 2,000 feet upstream of Yankee Hill Road | +1318
Stevens Creek Tributary 96 | At the confluence with Stevens Creek | +1272 | City of Lincoln.
| Approximately 3,150 feet upstream of Yankee Hill Road | +1378
Stevens Creek Tributary 98 | At the confluence with Stevens Creek | +1295 | City of Lincoln.
| Approximately 3,900 feet upstream of Yankee Hill Road | +1333
Stevens Creek Tributary 105 | At the confluence with Stevens Creek Tributary 5 | +1140 | City of Lincoln.
| Approximately 2,445 feet upstream of Havelock Road | +1191
Stevens Creek Tributary 110 | At the confluence with Stevens Creek Tributary 10 | +1162 | City of Lincoln.
| Approximately 362 feet upstream of Leighton Avenue | +1192
Stevens Creek Tributary 130 | At the confluence with Stevens Creek Tributary 30 | +1201 | City of Lincoln.
| Approximately 1,025 feet upstream of North 98th Street | +1213
Stevens Creek Tributary 135 | At the confluence with Stevens Creek Tributary 35 | +1176 | City of Lincoln.
| Approximately 3,325 feet upstream of the confluence with Stevens Creek Tributary 35 | +1220
Stevens Creek Tributary 145 | At the confluence with Stevens Creek Tributary 45 | +1188 | City of Lincoln.
| Approximately 2,050 feet upstream of the confluence with Stevens Creek Tributary 45 | +1207
Stevens Creek Tributary 150 | At the confluence with Stevens Creek Tributary 50 | +1190 | Unincorporated Areas of Lancaster County.
| Approximately 1.4 miles upstream of the confluence with Stevens Creek Tributary 2150 | +1293
Stevens Creek Tributary 160 | At the confluence with Stevens Creek Tributary 60 | +1224 | City of Lincoln.
| Approximately 1,686 feet upstream of South 112th Street | +1286
Stevens Creek Tributary 170 | At the confluence with Stevens Creek Tributary 70 | +1217 | Unincorporated Areas of Lancaster County.
| Approximately 1,221 feet upstream of Van Dorn Street | +1239
Stevens Creek Tributary 185 | At the confluence with Stevens Creek Tributary 85 | +1252 | Unincorporated Areas of Lancaster County.
| Approximately 3,100 feet upstream of the confluence with Stevens Creek Tributary 85 | +1282
Stevens Creek Tributary 196 | At the confluence with Stevens Creek Tributary 96 | +1278 | City of Lincoln.
| Approximately 4,350 feet upstream of the confluence with Stevens Creek Tributary 96 | +1324
Stevens Creek Tributary 245 | At the confluence with Stevens Creek Tributary | +1205 | City of Lincoln.
| Approximately 1,486 feet upstream of South 112th Street | +1224
Stevens Creek Tributary 250 | At the confluence with Stevens Creek Tributary 50 | +1202 | City of Lincoln.
| Approximately 2,077 feet upstream of Holdrege Street | +1272
Stevens Creek Tributary 260 | At the confluence with Stevens Creek Tributary 60 | +1241 | City of Lincoln.
| Approximately 218 feet upstream of Old Cheney Road | +1288
Stevens Creek Tributary 270 | At the confluence with Stevens Creek Tributary 70 | +1233 | Unincorporated Areas of Lancaster County.
| Approximately 4,300 feet upstream of the confluence with Stevens Creek Tributary 2270 | +1302
Stevens Creek Tributary 296 | At the confluence with Stevens Creek Tributary 96 | +1323 | City of Lincoln.
| Approximately 4,000 feet upstream of the confluence with Stevens Creek Tributary 96 | +1343
Stevens Creek Tributary 345 | At the confluence with Stevens Creek Tributary 45 | +1216 | City of Lincoln.
| Approximately 2,450 feet upstream of the confluence with Stevens Creek Tributary 45 | +1225
Stevens Creek Tributary 350 | At the confluence with Stevens Creek Tributary 50 | +1251 | Unincorporated Areas of Lancaster County.
| Approximately 2,700 feet upstream of the confluence with Stevens Creek Tributary 50 | +1281
Stevens Creek Tributary 360 | At the confluence with Stevens Creek Tributary 60 | +1252 | City of Lincoln.
| Approximately 1,893 feet upstream of South 112th Street | +1297
Stevens Creek Tributary 396 | At the confluence with Stevens Creek Tributary 96 | +1337 | City of Lincoln.
| Approximately 2,000 feet upstream of the confluence with Stevens Creek Tributary 96 | +1362
Stevens Creek Tributary 445 | At the confluence with Stevens Creek Tributary 45 | +1220 | City of Lincoln.
| Approximately 2,425 feet upstream of 84th Street | +1284
Stevens Creek Tributary 460 | At the confluence with Stevens Creek Tributary 60 | +1268 | City of Lincoln.
| Approximately 1.0 mile upstream of the confluence with Stevens Creek Tributary 60 | +1322
Stevens Creek Tributary 545 | At the confluence with Stevens Creek Tributary 45 | +1236 | City of Lincoln.
| Approximately 3,750 feet upstream of South 98th Street | +1276
Stevens Creek Tributary 1150 | At the confluence with Stevens Creek Tributary 150 | +1219 | City of Lincoln.
| Approximately 2,875 feet upstream of the confluence with Stevens Creek Tributary 150 | +1246
Stevens Creek Tributary 1270 | Approximately 2,879 feet upstream of County Road | +1237 | Unincorporated Areas of Lancaster County.
| Approximately 2,879 feet upstream of County Road | +1304
Stevens Creek Tributary 2150 | At the confluence with Stevens Creek Tributary 150 | +1246 | Unincorporated Areas of Lancaster County.
| Approximately 2,625 feet upstream of O Street | +1307
Stevens Creek Tributary 2270 | At the confluence with Stevens Creek Tributary 270 | +1263 | Unincorporated Areas of Lancaster County.
| Approximately 3,500 feet upstream of the confluence with Stevens Creek Tributary 270 | +1297
Tierra Branch/Cripple Creek | At the confluence with Beal Slough | +1195 | City of Lincoln.
| Approximately 970 feet upstream of Fir Hollow Lane | +1272
Tributary 1 to Southeast Upper Salt Creek | At the confluence with Southeast Upper Salt Creek | +1225 | City of Lincoln.
| Approximately 500 feet upstream of South 40th Street | +1235
Tributary 2 to Southeast Upper Salt Creek | At the confluence with Southeast Upper Salt Creek | +1261 | City of Lincoln.
| Approximately 2,180 feet upstream of Newcastle Road | +1283
Tributary 3 to Southeast Upper Salt Creek | At the confluence with Southeast Upper Salt Creek | +1290 | City of Lincoln.
| Approximately 1,530 feet upstream of Rokeby Road | +1309
Tributary 4 to South Tributary to Southeast Upper Salt Creek | At the confluence with South Tributary to Southeast Upper Salt Creek | +1199 | City of Lincoln.
| Approximately 420 feet upstream of South 38th Street | +1225
Unnamed Tributary 2 | At the confluence with Salt Creek | +1110 | City of Waverly.
| Approximately 540 feet upstream of North 148th Street | +1118
Wilderness Hills Tributary to Southeast Upper Salt Creek | At the confluence with Southeast Upper Salt Creek | +1208 | City of Lincoln.
| Approximately 1,010 feet upstream of the confluence with Southeast Upper Salt Creek | +1219
Williamsburg Tributary | At the confluence with Tierra Branch | +1219 | City of Lincoln.
| Approximately 700 feet upstream of Williamsburg Drive | +1238
* National Geodetic Vertical Datum. + North American Vertical Datum. # Depth in feet above ground. ‸ Mean Sea Level, rounded to the nearest 0.1 meter.
ADDRESSES
City of Lincoln
Maps are available for inspection at the Building and Safety Department, 555 South 10th Street, Lincoln, NE 68508.
City of Waverly
Maps are available for inspection at City Hall, 14130 Lancashire Street, Waverly, NE 68462.
Unincorporated Areas of Lancaster County
Maps are available for inspection at the Building and Safety Department, 555 South 10th Street, Lincoln, NE 68508.
Otoe County, Nebraska, and Incorporated Areas
Docket No.: FEMA-B-1087
Missouri River | At easternmost limit of the county boundary | +914 | City of Nebraska City, Unincorporated Areas of Otoe County.
| At State Highway 2 (Burlington Northern Railroad) | +931
| At Everett Lane extended | +943
* National Geodetic Vertical Datum. + North American Vertical Datum. # Depth in feet above ground. ‸ Mean Sea Level, rounded to the nearest 0.1 meter.
ADDRESSES
City of Nebraska City
Maps are available for inspection at 1409 Central Avenue, Nebraska City, NE 68410.
Unincorporated Areas of Otoe County
Maps are available for inspection at the Otoe County Courthouse, 1021 Central Avenue, Nebraska City, NE 68410.
Sullivan County, New York (All Jurisdictions)
Docket No.: FEMA-B-1087
Beaver Kill | Approximately 1.5 miles downstream of Old State Route 17 | +1257 | Town of Rockland.
| At the confluence with Willowemoc Creek | +1274
Callicoon Creek-East Branch Callicoon Creek | At the confluence with the Delaware River | +758 | Town of Delaware, Village of Jeffersonville.
| Approximately 50 feet upstream of Jefferson Lake Dam | +1066
Cattail Brook | Just upstream of River Road | +1423 | Town of Rockland.
| Approximately 1,324 feet upstream of Shandelee Road | +1522
Delaware River | At the Delaware County boundary | +490 | Town of Cochecton, Town of Delaware, Town of Fremont, Town of Highland, Town of Lumberland, Town of Tusten.
| At the Orange County boundary | +842
Lake Jefferson | Approximately 1,000 feet upstream of Lake Jefferson Dam | +1086 | Town of Bethel, Town of Callicoon, Town of Delaware.
| Approximately 0.9 mile upstream of Lake Jefferson Dam | +1086
Middle Mongaup River | At the confluence with the Mongaup River | +1143 | Town of Bethel.
| Approximately 1.3 miles upstream of Strong Road | +1223
Mongaup River (Swinging Bridge Reservoir) | Approximately 0.7 mile downstream of State Route 17B | +1075 | Town of Bethel.
| Approximately 1.2 miles upstream of Coopers Corner Road | +1143
Neversink River | Approximately 1.5 miles upstream of State Highway 17 | +1090 | Town of Fallsburg.
| Approximately 3.0 miles upstream of State Highway 17 | +1095
Sprague Brook | At the confluence with Willowemoc Creek | +1511 | Town of Rockland.
| Approximately 480 feet upstream of the confluence with Willowemoc Creek | +1511
Stewart Brook | At the confluence with Willowemoc Creek | +1288 | Town of Rockland.
| Approximately 1.6 miles upstream of Gulf Road | +1392
Willowemoc Creek | At the confluence with Beaver Kill | +1274 | Town of Rockland.
| Approximately 135 feet downstream of Hunter Lake Road | +1647
* National Geodetic Vertical Datum. + North American Vertical Datum. # Depth in feet above ground. ‸ Mean Sea Level, rounded to the nearest 0.1 meter.
ADDRESSES
Town of Bethel
Maps are available for inspection at the Town Hall, 3454 Route 55, Bethel, NY 12786.
Town of Callicoon
Maps are available for inspection at the Callicoon Town Hall, 19 Legion Street, Jeffersonville, NY 12748.
Town of Cochecton
Maps are available for inspection at the Town Clerk's Office, 111 Bernas Road, Cochecton, NY 12726.
Town of Delaware
Maps are available for inspection at the Delaware Town Hall, 104 Main Street, Hortonville, NY 12745.
Town of Fallsburg
Maps are available for inspection at the Fallsburg Code Enforcement Office, 5250 Main Street, South Fallsburg, NY 12779.
Town of Fremont
Maps are available for inspection at the Fremont Town Clerk's Office, 895 County Road 94, Hankins, NY 12741.
Town of Highland
Maps are available for inspection at the Highland Town Hall, 4 Proctor Road, Eldred, NY 12732.
Town of Lumberland
Maps are available for inspection at the Lumberland Municipal Offices, 1054 Proctor Road, Glen Spey, NY 12737.
Town of Rockland
Maps are available for inspection at the Rockland Town Hall, 95 Main Street, Livingston Manor, NY 12758.
Town of Tusten
Maps are available for inspection at the Tusten Town Hall, 210 Bridge Street, Narrowsburg, NY 12764.
Village of Jeffersonville
Maps are available for inspection at the Village Hall, 17 Center Street, Jeffersonville, NY 12748.
Fannin County, Texas, and Incorporated Areas
Docket No.: FEMA-B-1083
Bois D'arc Creek | Approximately 1,400 feet upstream of State Highway 56 | +553 | Unincorporated Areas of Fannin County.
| Approximately 0.75 mile upstream of State Highway 56 | +554
* National Geodetic Vertical Datum. + North American Vertical Datum. # Depth in feet above ground. ‸ Mean Sea Level, rounded to the nearest 0.1 meter.
ADDRESSES
Unincorporated Areas of Fannin County
Maps are available for inspection at 101 East Sam Rayburn Drive, Bonham, TX 75418.
Hale County, Texas, and Incorporated Areas
Docket No.: FEMA-B-1083
Running Water Draw | Approximately 1,800 feet downstream of County Road Y | +3337 | City of Plainview, Unincorporated Areas of Hale County.
| Approximately 500 feet upstream of U.S. Route 70 | +3382
Tributary A | Approximately 1,400 feet upstream of I-27 (Business Loop) | +3380 | City of Plainview, Unincorporated Areas of Hale County.
| Just upstream of County Road 60 | +3388
Tributary to Running Water Draw | At the confluence with Running Water Draw | +3365 | City of Plainview, Unincorporated Areas of Hale County.
| Playa C adjoining I-27 | +3381
* National Geodetic Vertical Datum. + North American Vertical Datum. # Depth in feet above ground. ‸ Mean Sea Level, rounded to the nearest 0.1 meter.
ADDRESSES
City of Plainview
Maps are available for inspection at 901 Broadway Street, Plainview, TX 79072.
Unincorporated Areas of Hale County
Maps are available for inspection at 500 Broadway Street, Plainview, TX 79072.

(Catalog of Federal Domestic Assistance No. 97.022, “Flood Insurance.”)

Dated: February 8, 2011.
Edward L. Connor,
Acting Federal Insurance and Mitigation Administrator, Department of Homeland Security, Federal Emergency Management Agency.

[FR Doc. 2011-3418 Filed 2-15-11; 8:45 am]

BILLING CODE 9110-12-P